DEPARTMENT OF TRANSPORTATION

Federal Aviation Administration

Advisory Circulars (AC) 25.795-1, Flightdeck Intrusion Resistance, and AC 25.795-2, Flightdeck Penetration Resistance

AGENCY: Federal Aviation Administration, DOT.

ACTION: Notice of issuance of advisory circular.

SUMMARY: The FAA announces the issuance of Advisory Circular (AC) 25.795-1, “Flightdeck Intrusion Resistance,” and 25.795-2 “Flightdeck Penetration Resistance.” These advisory circulars provide information and guidance for compliance with a recently issued amendment concerning security considerations in the design of the flightdeck on transport category airplanes.

HOW TO OBTAIN COPIES: Copies of both AC's can be found and downloaded from the Internet at http://www.faa.gov/avr/air/acs/achome.htm, at the link titled “Advisory Circulars,” or at the Regulatory and Guidance Library Web site at http:\\www.airweb.faa.gov/rgl, at the link titled “Advisory Circulars.” Paper copies of the AC's will be available in approximately 6-8 weeks from the U.S. Department of Transportation, Subsequent Distribution Office, SVC-121.23, Ardmore East Business Center, 3341 Q 75th Avenue, Landover, MD 20785.

FURTHER INFORMATION CONTACT: Jan Thor, FAA Standardization Branch, ANM-113, Transport Airplane Directorate, 1601 Lind Avenue SW., Renton, Washington 98055-4056; telephone (425) 227-2127.

Issued in Renton, Washington, on January 10, 2002.
Vi Lipski,
Manager, Transport Airplane Directorate, Aircraft Certification Service, ANM-100.

[FR Doc. 02-966 Filed 1-10-02; 4:15 pm]

BILLING CODE 4910-13-M